DEPARTMENT OF TRANSPORTATION

Pipeline and Hazardous Materials Safety Administration

Hazardous Materials: Actions on Special Permit Applications

AGENCY: Office of Hazardous Materials Safety, Pipeline and Hazardous Materials Safety Administration (PHMSA), DOT.

ACTION: Notice of actions on special permit applications.

SUMMARY: In accordance with the procedures governing the application for, and the processing of, special permits from the Department of Transportation's Hazardous Material Regulations (49 CFR part 107, subpart B), notice is hereby given of the actions on special permits applications in (October to October 2014). The mode of transportation involved are identified by a number in the “Nature of Application” portion of the table below as follows: 1-Motor vehicle, 2-Rail freight, 3-Cargo vessel, 4-Cargo aircraft only, 5-Passenger-carrying aircraft. Application numbers prefixed by the letters EE represent applications for Emergency Special Permits. It should be noted that some of the sections cited were those in effect at the time certain special permits were issued.

Issued in Washington, DC, on June 23, 2015.
Ryan Paquet,
Director, Approvals and Permits Division.

S.P No. | Applicant | Regulation(s) | Nature of special permit thereof
MODIFICATION SPECIAL PERMIT GRANTED
15642-M | Praxair Distribution, Inc., Danbury, CT | 49 CFR 180.205 and 180.209(a)(b), 180.213(b), and 180.213(f)(2) | To modify the special permit to waive the requirement for the special permit number being marked on shipping papers, modification of the proper shipping names, modification of wording to clarify authorized locations of UE testing, and waive the requirement for the special permit to be carried on each motor vehicle.
11903-M | Comptank Corporation, Bothwell, ON | 49 CFR 107.503(b),172.102(c)(3) SP B15 and B23, 173.241, 173.242, 173.243, 178.345-1, -2, -3, -4, -7, -14 and -15, 180.405, and 180.413(d) | To modify the special permit to authorize a 54-inch diameter, 312-inch length, single rib vessel with a design pressure of 35 psig.
11253-M | DPC Industries, Inc., Houston, TX | 49 CFR 172.101, Special Provision B14; 173.315, Notes 4, 24 | To modify the special permit to add an additional cargo tank.
12084-M | Honeywell International, Inc., Morristown, NJ | 49 CFR 180.209 | To modify the special permit to authorize the transportation in commerce of additional Division 2.2 gases in DOT 4B, 4BA and 4BW cylinders.
12116-M | Proserv UK Ltd, East Tullos Aberdeen | 49 CFR 178.36 | To modify the special permit to authorize use of a stronger and more corrosion resistant material to be used to manufacture certain parts of the cylinders.
16311-M | Raytheon Missile Systems, Tucson, AR | 49 CFR 172.101 Column (9B), 172.204(c)(3), 173.27(6)(2) and (3) | To modify the special permit originally issued on an emergency basis to authorize an additional two year.
16219-M | Structural Composites Industries (SCI), Pomona, CA | 49 CFR 173.302a and 173.304a | To modify the special permit originally issued on an emergency basis to authorize an additional two years.
15848-M | Ambri, Inc., Cambridge, MA | 49 CFR 173.222(c)(1) | To modify the special permit to authorize cargo vessel as a mode of transportation, add a new 8″ cell design for the lithium battery and add a new shipping location.
12187-M | ITW Sexton, Decatur, AL | 49 CFR 173.304(a); 175.3; 178.65 | To modify the special permit to raise the size for inner non-refillable metal receptacles to a water capacity of 61.0 cubic inches and add additional hazardous material.
15869-M | Mercedes Benz US. International Inc., Vance, AL | 49 CFR 172.102, Special provision A54 and ICAO Special provision A99 | To modify the special permit by adding ICAO cites for international transportation by air.
10597-M | Thermo King Corporation, Minneapolis, MN | 49 CFR 177.834(1)(2)(i) | To modify the special permit to authorize a new series of heaters containing Class 3 liquids and/or Division 2.1 gases.
NEW SPECIAL PERMIT GRANTED
16292-N | Standard Technologies, LLC, Fremont, OH | 49 CFR 177.834(h), 178.700(c)(1) | To authorize the manufacture, mark, sale and use of certain metal non-DOT specification tanks containing certain Class 3 liquids which may be discharged without removal from the motor vehicle. (mode 1)
16238-N | Entegris, Inc., Billerica, MA | 49 CFR 173.212, 173.213, 173.240, 173.241, 176.83, Packing Instructions 449 and 470 of the ICAO TI, Section 7.2.3.2.2 and Packing Instructions P002 and P410 of the IMDG Code | To authorize the transportation in commerce of certain Division 4.1 and Division 4.2 hazardous materials in alternative packagings and alternative segregation by cargo vessel. (modes 1, 2, 3, 4)
16241-N | Linde Gas North America LLC, Murry Hill, NJ | 49 CFR 173.301(f)(3), 173.301(g) | To authorize the transportation in commerce of hydrogen chloride, anhydrous in cylinders without pressure relief devices. (modes 1, 2, 3)
16274-N | Matheson Tr-Gas, Inc., Longmont, CO | 49 CFR 173.13(c)(2)(i), 173.13(c)(2)00, 173.13(c)(2)(iii), Packing Instruction 487 and 5; 3.1.1 of the ICAO TI | To authorize the transportation in commerce of certain Division 4.2 and 4.3 materials in specially-designed packagings shipped without labels. (modes 1, 4)
16321-N | China Oilfield Services Limited, Beijing | 49 CFR 173.201, 173.301(f), 173.302, 173.304a | To authorize the manufacture, mark, sale, and use of certain non-DOT specification cylinders oil well sampling cylinders containing certain Class 2 and 3 hazardous materials. (modes 1, 2, 3, 4)
16331-N | Airgas Specialty Products, Inc., Lawrenceville, GA | 49 CFR 173.301(f), 173.301(g) | To authorize the transportation in commerce of DOT specification cylinders, UN cylinders, tube trailers, and multi-element gas containers containing hydrogen chloride without pressure relief devices. (modes 1, 2, 3)
16334-N | ICL Performance Products LP, St Louis, MO | 49 CFR 178.255-11, 178.274(h)(l) | To authorize the one-way transportation in commerce of an ISO tank with a damaged frame. (mode 1)
16302-N | Ametek Inc., Pittsburgh, PA | 49 CFR 171.1 | To authorize the transportation in commerce of gases contained in glass ampules as not subject to the Hazardous Materials Regulations. (modes 1, 2, 3, 4, 5)
NEW SPECIAL PERMIT GRANTED
16308-N | GeNO LLC, Cocoa, FL | 49 CFR 173.175 | To authorize the transportation in commerce of permeation devices that are used in medical devices in lieu of use for calibrating air quality monitoring devices. (modes 1, 2, 3, 4, 5)
16323-N | Fibre Drum Sales Inc., Blue Island, IL | 49 CFR 172.203(a), 180.352(d)(1)(ii) | To authorize installation of a tested inner receptacle of a composite IBC without subjecting the inner receptacle to a leakproofness test after installation. (modes 1, 2, 3)
16351-N | VSL B.V., Thijsseweg | 49 CFR 173.302a | To authorize the transportation in commerce of certain Division 2.1 and 2.2 hazardous materials in non-DOT specification cylinders manufactured to a foreign specification. (modes 1, 4)
16338-N | Orion Polyurethanes, sp. z.o.o. S.K.A., Dzierzoniow | 49 CFR 173.306(a)(3)(v) | To authorize the transportation in commerce of Division 2.1 hazardous materials in certain DOT Specification 2Q non-refillable inside containers which have been tested by an alternative method in lieu of the hot water bath test. (modes 1, 2, 3, 4, 5)
16361-N | The University of Cincinnati, Cincinnati, OH | 49 CFR 173.196 | To authorize the transportation in commerce of certain Division 6.2 Category A infectious substances in alternative packaging (a freezer). No more than one freezer may be transported. (mode 1)
16359-N | Department of Defense, Scott AFB, IL | 49 CFR 172.101(k)(6), 172.101(k)(7), 172.101(k)(8), 172.101(k)(9), 172.101(k)(10), 176.84(c)(1), 176.84(c)(2) Notes 14E, 15E, 26E, and 27E, IMIDG Code 3.2.1 Column 16, IMDG Code 7.1.3.1 | To authorize the transportation in commerce of Division 1.1, 1.2, 1.3, and 1.4 hazardous materials in cargo transport units that are not closed and are not stowed in accordance with the Hazardous Materials Table or the Dangerous Goods List. (mode 3)
16413-N | Amazon.com, Inc., Seattle, WA | 49 CFR 172.301(c), 173.185(c)(1)(iii), 173.185(c)(3)(i) | To authorize the transportation in commerce of packages containing lithium cells and batteries without the markings required in §§ 173.185(c)(1)(iii) and 173.185(c)(3)(i) when contained in overpacks and transported via motor vehicle between the grantee and Amazon.com, Inc.'s distribution centers that hold party status to this special permit. (mode 1)
16429-N | Construction Helicopters, Inc., Howell, MI | 49 CFR 172.101 Hazardous Materials Table Column (9B), Subpart C of Part 172, 172.301(c), 175.30 | To authorize the transportation in commerce of certain hazardous materials by 14 CFR part 133 Rotorcraft External Load Operations transporting hazardous materials attached to or suspended from an aircraft. Such transportation is in support of construction operations when the use of cranes or other lifting devices is impracticable or unavailable, without being subject to certain hazard communication requirements and quantity limitations. (mode 4)
16410-N | Snap-on, Inc., Kenosha, WI | 49 CFR 172.301(c), 173.185(c)(1)(iii), 173.185(c)(3)(i) | To authorize the transportation in commerce of packages containing lithium cells and batteries without the markings required in §§ 173.185(c)(1)(iii) and 173.185(c)(3)(i) when contained in overpacks and transported via motor vehicle between Snap-on, Inc. distribution centers. (mode 1)
EMERGENCY SPECIAL PERMIT GRANTED
16427-N | Washington Department of Transportation, Ferries Division, Seattle, WA | 49 CFR 172.101 Hazardous Materials Table Column (10A), stowage categories “01”, “02”, “04”, and “05” | To authorize the transportation in commerce of certain Class 1 hazardous materials contained within vehicles owned and operated by the United States Military, vehicles owned and operated by the Washington State Patrol, and vehicles owned and operated by other local law enforcement agencies within Puget Sound on passenger-ferry vessels. (mode 6)
16465-N | Atlas Air, Inc., Purchase, NY | 49 CFR 172.101 Table Column (9B), 172.204(c)(3), 173.27, and 175.30(a)(1) | To authorize the one-time transportation in commerce of certain explosives that are forbidden for transportation by cargo only aircraft. (mode 4)
16494-N | BP Exploration, (Alaska) Inc. (BPXA), Anchorage, AK | 49 CFR 172.101 Column (9B) | To authorize the transportation in commerce of a corrosive material that exceeds the quantity limitation for cargo aircraft. (mode 4)
MODIFICATION SPECIAL PERMIT WITHDRAWN
15491-M | Sea-Fire Marine, Baltimore, MD | 49 CFR 173.301(f) | To modify the special permit to authorize non-DOT specification cylinders being used on foreign vessel to be transported for service while the vessel is in USA water.
14778-M | Sea-Fire Marine, Baltimore, MD | 49 CFR 173.301(f) | To modify the special permit to authorize non-DOT specification cylinders being used on foreign vessel to be transported for service while the vessel is in USA water.
NEW SPECIAL PERMIT WITHDRAWN
16460-N | Florida Power and Light Company, West Palm Beach, FL | 49 CFR 172.201(e) | To authorize the transportation in commerce of lithium ion batteries that are permanently mounted in small trailers without having to retain a record of each shipment made when using a “permanent shipping paper.” (mode 1)
16476-N | Construction Helicopters, Inc., Howell, MI | 49 CFR parts 171-180 | To authorize the transportation in commerce by 14 CFR part 133 Rotorcraft External Load Operations transporting hazardous materials attached to or suspended from an aircraft as not subject to the LIMR under certain conditions. (mode 4)
DENIED
16353-N | Request by Candle Lamp Company, LLC Corona, CA May 13, 2015. To authorize the transportation in commerce of a Division 2.1 hazardous material in non-refillable non-DOT specification inside containers conforming with DOT Specification 2P except for size and testing requirements.
16350-N | Request by Arc Process, Inc. Austin, TX May 15, 2015. To authorize the manufacture, mark, sale and use of a non-DOT specification cylinder conforming in part with DOT specification 48.
16408-N | Request by Carleton Technologies, Inc. Westminster, MD May 28, 2015. To authorize the manufacture, mark, sale and use of carbon and glass fiber reinforced, non-refillable, aluminum lined composite non-DOT specification cylinders.
I6425-N | Request by Cabot Corporation Tuscola, IL May 22, 2015. To authorize personnel to observe loading and unloading of cargo tank motor vehicles through two windows in a control center instead of being physically located within 25 feet of the cargo tanks.
16431-N | Request by Arnold Aviation and Thunder Mountain Express, Inc. Cascade, ID May 22, 2015. To authorize the transportation in commerce of certain cylinders containing certain Division 2.1 gases aboard passenger-carrying aircraft to remote locations.

[FR Doc. 2015-15846 Filed 7-1-15; 8:45 am]

BILLING CODE 4909-60-M